DEPARTMENT OF JUSTICE

Notice of Lodging Sixth Amendment to Consent Decree Pursuant to The Clean Air Act

In accordance with 28 CFR 50.7, notice is hereby given that on August 20, 2012, a proposed Sixth Amendment To Consent Decree in United States v. Sinclair Wyoming Refining Co., et al., Case No. 08-cv-020-WFD, was lodged with the United States District Court for the District of Wyoming.

The proposed Sixth Amendment To Consent Decree would resolve the United States' and State of Wyoming's claims that the Sinclair Wyoming Refining Company (“SWRC”) and the Sinclair Casper Refining Company (“SCRC”) violated certain provisions of the 2008 Consent Decree in United States v. Sinclair Wyoming Refining Co., et al., Case No. 08-cv-020-WFD. Under the terms of the Sixth Amendment To Consent Decree, SWRC and SCRC will both install additional pollution control equipment to enable compliance with requirements of the 2008 Consent Decree and take other action to offset emissions that resulted from the alleged violations.

The Department of Justice will receive comments relating to the proposed consent decree amendment for a period of thirty (30) days from the date of this publication. Comments should be addressed to the Assistant Attorney General for the Environment and Natural Resources Division, and either emailed to pubcomment-ees.enrd@usdoj.gov or mailed to P.O. Box 7611, U.S. Department of Justice, Washington, DC 20044-7611, and should refer to United States v. Sinclair Wyoming Refining Co., et al., Case No. 08-cv-020-WFD, and Department of Justice Reference No. 90-5-2-1-07793.

During the public comment period, the consent decree amendment may be examined on the following Department of Justice Web site, http://www.usdoj.gov/enrd/Consent_Decrees.html. A copy of the consent decree amendment may also be obtained by mail from the Consent Decree Library, P.O. Box 7611, U.S. Department of Justice, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $15.00 ($.25 per page) if exhibits are requested or $3.00 if exhibits are not requested, payable to the U.S. Treasury or, if by email or fax, forward a check in that amount to the Consent Decree Library at the address given above.

Robert D. Brook,
Assistant Chief, Environmental Enforcement Section, Environment and Natural Resources Division.

[FR Doc. 2012-20781 Filed 8-22-12; 8:45 am]

BILLING CODE 4410-15-P